DEPARTMENT OF TRANSPORTATION

Federal Aviation Administration

14 CFR Part 39

[Docket No. FAA-2021-1003; Project Identifier AD-2021-01141-R; Amendment 39-21899; AD 2022-02-02]

RIN 2120-AA64

Airworthiness Directives; Bell Textron Inc. (Type Certificate Previously Held by Bell Helicopter Textron Inc.) Helicopters

AGENCY: Federal Aviation Administration (FAA), DOT.

ACTION: Final rule; correction.

SUMMARY: The FAA is correcting an airworthiness directive (AD) that published in the Federal Register. That AD applies to Bell Textron Inc. (type certificate previously held by Bell Helicopter Textron Inc.) Model 204B, 205A, 205A-1, 205B, 210, and 212 helicopters with a certain outboard main rotor hub strap pin (pin) installed. As published, the AD number specified in the regulatory text is incorrect. This document corrects that error. In all other respects, the original document remains the same.

DATES: This correction is effective February 16, 2022. The effective date of AD 2022-02-02 remains February 16, 2022.

ADDRESSES: You may examine the AD docket at https://www.regulations.gov by searching for and locating Docket No. FAA-2021-1003, or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: David Wilson, Aerospace Engineer, DSCO Branch, Compliance & Airworthiness Division, FAA, 10101 Hillwood Pkwy., Fort Worth, TX 76177; telephone (817) 222-5786; email david.wilson@faa.gov.

SUPPLEMENTARY INFORMATION: AD 2022-02-02, Amendment 39-21899 (87 FR 1668, January 12, 2022) (AD 2022-02-02), requires removing any pin part number 204-012-104-005 with a serial number prefix “FNFS” from service and prohibits installing the affected pin on any helicopter.

Need for the Correction

As published, the AD number specified in the regulatory text is incorrect. The incorrectly specified AD number was FAA-2021-1003; the correct AD number is 2022-02-02.

Correction of Publication

This document corrects an error and correctly adds the AD as an amendment to 14 CFR 39.13. Although no other part of the preamble or regulatory information has been corrected, the FAA is publishing the entire rule in the Federal Register.

The effective date of this AD remains February 16, 2022.

Since this action only corrects the AD number, it has no adverse economic impact and imposes no additional burden on any person. Therefore, the FAA has determined that notice and public comment procedures are unnecessary.

List of Subjects in 14 CFR Part 39

Air transportation, Aircraft, Aviation safety, Incorporation by reference, Safety.

Adoption of the Correction

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Corrected]

2. The FAA amends § 39.13 by:

a. Removing Airworthiness Directive 2021-15-51, Amendment 39-21678 (86 FR 43406, August 9, 2021); and

b. Adding the following new airworthiness directive:

2022-02-02 Bell Textron Inc. (Type Certificate Previously Held by Bell Helicopter Textron Inc.): Amendment 39-21899; Docket No. FAA-2021-1003; Project Identifier AD-2021-01141-R.

(a) Effective Date

This airworthiness directive (AD) is effective February 16, 2022.

(b) Affected ADs

This AD replaces AD 2021-15-51, Amendment 39-21678 (86 FR 43406, August 9, 2021) (AD 2021-15-51).

(c) Applicability

This AD applies to Bell Textron Inc. (type certificate previously held by Bell Helicopter Textron Inc.) Model 204B, 205A, 205A-1, 205B, 210, and 212 helicopters, certificated in any category, with an outboard main rotor hub strap pin (pin) part number 204-012-104-005 with a serial number prefix “FNFS” installed.

(d) Subject

Joint Aircraft System Component (JASC) Code: 6200, Main Rotor System.

(e) Unsafe Condition

This AD was prompted by a fatal accident in which a pin sheared off during flight, which resulted in the main rotor blade and the main rotor head detaching from the helicopter. The FAA is issuing this AD to address this unsafe condition and prevent loss of control of the helicopter.

(f) Compliance

Comply with this AD within the compliance times specified, unless already done.

(g) Required Actions

(1) For Model 204B, 205A, 205A-1, 205B, and 212 helicopters:

(i) Before further flight from August 24, 2021 (the effective date of AD 2021-15-51), remove from service any pin that is identified in paragraph (c) of this AD.

(ii) After August 24, 2021 (the effective date of AD 2021-15-51), do not install any pin that is identified in paragraph (c) of this AD on any helicopter.

(2) For Model 210 helicopters:

(i) Before further flight after the effective date of this AD, remove from service any pin that is identified in paragraph (c) of this AD.

(ii) As of the effective date of this AD, do not install any pin that is identified in paragraph (c) of this AD on any helicopter.

(h) Special Flight Permits

Special flight permits are prohibited.

(i) Alternative Methods of Compliance (AMOCs)

(1) The Manager, DSCO Branch, Compliance & Airworthiness Division, FAA, has the authority to approve AMOCs for this AD, if requested using the procedures found in 14 CFR 39.19. In accordance with 14 CFR 39.19, send your request to your principal inspector or local Flight Standards District Office, as appropriate. If sending information directly to the manager of the DSCO Branch, send it to the attention of the person identified in paragraph (j) of this AD. Information may be emailed to: 9-ASW-190-COS@faa.gov.

(2) Before using any approved AMOC, notify your appropriate principal inspector, or lacking a principal inspector, the manager of the local flight standards district office/certificate holding district office.

(j) Related Information

For more information about this AD, contact David Wilson, Aerospace Engineer, DSCO Branch, Compliance & Airworthiness Division, FAA, 10101 Hillwood Pkwy., Fort Worth, TX 76177; telephone (817) 222-5786; email david.wilson@faa.gov.

(k) Material Incorporated by Reference

None.

Issued on January 27, 2022.
Gaetano A. Sciortino,
Deputy Director for Strategic Initiatives, Compliance & Airworthiness Division, Aircraft Certification Service.

[FR Doc. 2022-02131 Filed 2-8-22; 8:45 am]

BILLING CODE 4910-13-P